INTERNATIONAL TRADE COMMISSION

[Investigation Nos. 701-TA-457 and 731-TA-1153 (Final)]

Certain Tow-Behind Lawn Groomers and Parts Thereof From China

Determinations

On the basis of the record ¹ developed in the subject investigations, the United States International Trade Commission (Commission) determines, pursuant to sections 705(b) and 735(b) of the Tariff Act of 1930 (19 U.S.C. 1671d(b) and 1673d(b)) (the Act), that an industry in the United States is materially injured by reason of imports from China of certain tow-behind lawn groomers and parts thereof, provided for in subheadings 8432.40.00, 8432.80.00, 8432.90.00, 8479.89.98, 8479.90.94, and 9603.50.00 of the Harmonized Tariff Schedule of the United States, that have been found by the Department of Commerce (Commerce) to be subsidized by the Government of China and sold in the United States at less than fair value (LTFV).²

¹ The record is defined in sec. 207.2(f) of the Commission's Rules of Practice and Procedure (19 CFR § 207.2(f)).

² Vice Chairman Pearson finds that the domestic industry is threatened with material injury by reason of subject imports.

Background

The Commission instituted these investigations effective June 24, 2008, following receipt of a petition filed with the Commission and Commerce by Agri-Fab, Inc., Sullivan, IL. The final phase of the investigations was scheduled by the Commission following notification of preliminary determinations by Commerce that imports of certain tow-behind lawn groomers and parts thereof from China were being subsidized by the government of China and being sold at LTFV within the meaning of sections 703(b) and 733(b) of the Act (19 U.S.C. 1671b(b) and 1673b(b)). Notice of the scheduling of the final phase of the Commission's investigations and of a public hearing to be held in connection therewith was given by posting copies of the notice in the Office of the Secretary, U.S. International Trade Commission, Washington, DC, and by publishing the notice in the Federal Register of March 13, 2009 (74 FR 10964). The hearing was held in Washington, DC, on June 16, 2009, and all persons who requested the opportunity were permitted to appear in person or by counsel.

The Commission transmitted its determination in this investigation to the Secretary of Commerce on July 27, 2009. The views of the Commission are contained in USITC Publication 4090 (July 2009), entitled Certain Tow-Behind Lawn Groomers and Parts Thereof from China: Investigation Nos. 701-TA-457 and 731-TA-1153 (Final).

By order of the Commission.
Issued: July 27, 2009.
Marilyn R. Abbott,
Secretary to the Commission.
William R. Bishop,
Acting Secretary to the Commission.

[FR Doc. E9-18251 Filed 7-30-09; 8:45 am]

BILLING CODE P